Title 3—

The President

Executive Order 14377 of January 23, 2026

Addressing State and Local Failures To Rebuild Los Angeles After Wildfire Disasters

By the authority vested in me as President by the Constitution and the laws of the United States of America, it is hereby ordered:

Section 1. Purpose. One year ago, the California State and Los Angeles city and county governments failed to contain wildfires that ravaged Los Angeles and consumed nearly 40,000 acres of homes and businesses. The State and local governments failed to engage in responsible forest management systems out of a misguided commitment to naturalist and climate policies, which increased the severity of the fires. They failed to maintain water distribution and reservoir systems so that these systems would be available and fully functional in case of emergency. They then failed to quickly communicate evacuation warnings and failed to act decisively or cohesively to contain the fire once it started burning. In fact, Mayor Karen Bass was not in Los Angeles to respond to the crisis because she was traveling abroad. This marked one of the greatest failures of elected political leadership in American history, from enabling the wildfires to failing to manage them, and it continues today with the abject failure to rebuild.

While the Biden Administration made big promises, debris removal did not actually begin until my Administration, through Executive Order 14181 of January 24, 2025 (Emergency Measures to Provide Water Resources in California and Improve Disaster Response in Certain Areas), initiated the fastest debris-removal operation in United States history. The Federal Government completed hazardous-materials sweeps and cleared over 9,500 properties of over 2.6 million tons of debris in just 6 months.

But since then, American families and small businesses affected by the wildfires have been forced to continue living in a nightmare of delay, uncertainty, and bureaucratic malaise as they remain displaced from their homes, often without a source of income, while State and local governments delay or prevent reconstruction by approving only a fraction of the permits needed to rebuild.

The Federal Government has approved numerous individual relief claims to provide financial support directly to owners of homes and businesses and help survivors repair, rebuild, return home, reopen their businesses, and restore their communities. But many homeowners and businesses have been unable to use these funds as they navigate overly burdensome, confusing, and inconsistent permitting requirements, duplicative permitting reviews, procedural bottlenecks, and administrative delays at the city, county, and State levels. Elected leaders have refused to take even the minimum action necessary to allow many of these survivors to move forward and rebuild their lives—the ultimate tragic failure of the State of California and City of Los Angeles to live up to their moral and legal obligations to their citizens. As a result, despite the Federal Government expeditiously clearing debris and doing its part to support survivors, the actions of State and local authorities have ensured that the vast majority of the tens of thousands of homes and businesses destroyed in the wildfires have not yet been rebuilt a year later.

In furtherance of the Presidential Declaration of a Major Disaster for the State of California (FEMA-4856-DR), immediate and decisive Federal action is required to ensure that Federal disaster assistance is delivered and utilized swiftly, effectively, and without obstruction by State and local governments, to accomplish the purposes for which it is allocated, as well as to support the American people who have been devastated by the Pacific Palisades and Eaton Canyon wildfires.

Sec. 2. Policy. It is the policy of my Administration that federally funded reconstruction projects for homes and businesses in the wildfire-impacted neighborhoods of the Pacific Palisades and Eaton Canyon areas proceed with the maximum speed consistent with public safety, and that Federal assistance not be frustrated by unnecessary, duplicative, or obstructive permitting requirements that prevent families and businesses from rebuilding.

Sec. 3. Preempting State Permitting Obstacles. (a) The Secretary of Homeland Security (Secretary), acting through the Administrator of the Federal Emergency Management Agency (FEMA), and the Administrator of the Small Business Administration (SBA) shall each consider promulgating regulations to advance the policies of this order. In particular, the Administrator of the SBA and the Secretary, through the Administrator of FEMA, shall consider promulgating regulations that:

(i) preempt State or local permitting processes, and other similar pre-approval requirements, that each agency has found to have unduly impeded the timely use of Federal emergency-relief funds by homeowners, businesses, or houses of worship in rebuilding such structures following a disaster; and

(ii) replace preempted State or local permitting regimes, or other similar pre-approval requirements, with a requirement that builders self-certify to a Federal designee from each agency that they have complied with all applicable substantive State and local health and safety standards with respect to the structure proposed to be rebuilt using Federal emergency-relief funds.

(b) The Secretary, through the Administrator of FEMA, and the Administrator of the SBA shall each publish proposed regulations under subsection (a) of this section, if any, within 30 days of the date of this order and final regulations within 90 days of the date of this order. Each agency head shall further consider whether notice and comment is unnecessary under 5 U.S.C. 553 or any other statute.

(c) The Secretary, through the Administrator of FEMA, shall continue to review all repairs and construction activities conducted under this order for compliance with applicable health, safety, and other substantive standards.

Sec. 4. Expediting Federal Response. (a) The Federal Government has already taken action to expedite administrative processes related to water delivery, as detailed in Executive Order 14181 of January 24, 2025 (Emergency Measures to Provide Water Resources in California and Improve Disaster Response in Certain Areas). In addition, the heads of relevant executive departments and agencies (agencies) shall seek to use all authorities available under Federal environmental, historic preservation, natural resource laws, or other similar laws, including the National Environmental Protection Act (42 U.S.C. 4321 et seq.), the Endangered Species Act (16 U.S.C. 1531 et seq.), and the National Historic Preservation Act (54 U.S.C. 300101 et seq.), to expedite waivers, permits, reviews, consultations, or approvals with respect to homes, businesses, or other such structures proposed to be rebuilt using Federal emergency-relief funds that are required to facilitate Federal response and recovery actions that will advance the policy of this order, consistent with applicable law.

(b) The heads of relevant agencies shall take steps to ensure that the process for evaluating and issuing such waivers, permits, reviews, consultations, or approvals shall be limited to the minimum scope and duration required to expeditiously advance the policy of this order and implement Individual Assistance and Hazard Mitigation Grant Programs while ensuring public health and safety.

(c) The heads of relevant agencies shall each designate a senior official from their agency to ensure timely execution of these actions without delay.

Sec. 5. Legislation. Within 90 days of the date of this order, the Secretary, through the Administrator of FEMA, and the Administrator of the SBA, in consultation with the Assistant to the President for Domestic Policy and the White House Director of Legislative Affairs, shall submit to the President, through the Director of the Office of Management and Budget, legislative proposals that enable FEMA and SBA to address situations in which States or local governments are not enabling timely recovery after disasters, including through appropriate regulation.

Sec. 6. Accountability for Use of Taxpayer Dollars. (a) The Secretary, through the Administrator of FEMA, shall:

(i) within 30 days of the date of this order, determine what amount, if any, of the nearly $3 billion in unspent Hazard Mitigation Grant Program (HMGP) funding granted to California, which was awarded to mitigate hazards, including the threat of future wildfires to the citizens of California, was awarded arbitrarily, capriciously, or contrary to law; and

(ii) within 60 days of the date of this order, conduct a Federal audit of California's use of HMGP funding, including of whether funded projects were completed as approved and on time, whether projected risk reduction matched actual outcomes, and whether California used Federal funding in a way that demonstrably mitigated the impact of future wildfires on its citizens.

(b) Within 30 days of the completion of the audit described in subsection (a)(ii) of this section, the Secretary, through the Administrator of FEMA, shall make administrative determinations in light of the audit's findings and recommendations, and shall enforce such determinations by, where appropriate, imposing future grant conditions, initiating recoupment or recovery actions in accordance with applicable law, or deploying oversight and technical assistance to expedite the administration and use of HMGP funds for individuals, families, and small businesses, to implement this order.

Sec. 7. General Provisions. (a) Nothing in this order shall be construed to impair or otherwise effect:

(i) the authority granted by law to an executive department or agency, or the head thereof; or

(ii) the functions of the Director of the Office of Management and Budget related to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

January 23, 2026.

[FR Doc. 2026-01871

Filed 1-28-26; 11:15 am]

Billing code 4410-10-P